DEPARTMENT OF ENERGY

Establishment of the National Quantum Initiative Advisory Committee

AGENCY: Office of Science, Department of Energy.

ACTION: Notice; solicitation of nominations.

SUMMARY: The U.S. Department of Energy (DOE) or (the Department) announces the establishment of the National Quantum Initiative Advisory Committee (Committee), pursuant to, the National Quantum Initiative Act, and in accordance with the Federal Advisory Committee Act (FACA), as delegated to the Department by the President under Executive Order 13885. The Committee will provide advice and recommendations to the President, Secretary of Energy, and the National Science and Technology Council's Subcommittee on Quantum Information Science (SCQIS) on the National Quantum Initiative (NQI). This advice will include assessments of trends and developments in quantum information science and technology (QIST), implementation and management of the NQI, whether NQI activities are helping to maintain United States leadership in QIST, whether program revisions are necessary, what opportunities exist for international collaboration and open standards, and whether national security and economic considerations are adequately addressed by the NQI. The Secretary of Energy is requesting nominations for membership to the Committee. The Secretary of Energy, with input from the Director of the Office of Science and Technology Policy or the Director's designee (as co-chair of the Committee), will consider nominations received in response to this notice.

DATES: All nominations for members must be received by midnight Eastern Time on October 4, 2019.

ADDRESSES: Submit nominations electronically by email to NQIAC@science.doe.gov.

FOR FURTHER INFORMATION CONTACT: NQIAC@science.doe.gov or Corey Stambaugh at email: Corey.A.Stambaugh@ostp.eop.gov or phone: (202) 456-3606.

SUPPLEMENTARY INFORMATION:

I. The National Quantum Initiative Advisory Committee

Quantum information science (QIS) has the opportunity to revolutionize our scientific knowledge, improve our industrial base, and provide substantial economic and national security benefits. Many recognize that QIS technologies will likely underpin almost every aspect of technology two decades from now, as can be seen by the strong increase in industrial investment from both established firms and a host of new startups.

This base science and technology matters. Think to the impact of atomic clocks, an early quantum technology, on enabling the Global Positioning System and modern telecommunications. We are witnessing a second information technology (IT) revolution with quantum devices enabling previously undreamt of possibilities. Fundamentally, new technologies of this nature can come to underpin significant aspects of the national economic and defense ecosystem.

The National Quantum Initiative Act calls for the establishment of a whole-of-Government approach to QIST research and development—the NQI. This effort will leverage the leadership position of the United States in this area to expand our global edge in the face of increasing international and multinational pressure. This notice announces the establishment, as required by Statute, of the Committee to advise the President and the SCQIS on the direction and implementation of the NQI. One of the Committee's activities will be to provide biennial reports on the NQI to ensure that recommendations for improvements and changes are developed and promulgated on a regular basis, enabling research on the cutting edge of scientific discovery, the next generation workforce, the next generation industry, international collaboration, and economic and national security.

Unless otherwise extended, the Committee will terminate December 21, 2030, 11 years after the date of the NQIA signing, according to the exception to section 14 of the FACA in the NQIA. The Department of Energy shall provide the Committee with funding and administrative support as may be necessary for the performance of the Committee's functions.

II. Description of Committee Member Duties

The Committee will advise the President, the Secretary of Energy (Secretary), and the SCQIS in their efforts to maintain United States leadership in QIS.

Members must be able to actively participate in the tasks of the Committee including, but not limited to regularly attending and participating in meetings, reviewing materials, and participating in conference calls, working groups, and formal subcommittees. The Committee may advise the SCQIS in any of its efforts, so the Secretary will consider nominees who can best support, in an advisory capacity, any of the following functions:

• Devising a national strategy for maintaining leadership in QIS, including enabling new scientific discovers, empowering quantum-related industry, utilizing existing and new infrastructure, enabling international collaborations, and providing for improved economic and national security;

• Fostering close coordination, cooperation, and information exchange within the Federal government and between the government and non-Federal stakeholders as related to issues concerning the NQI;

• Examining and providing feedback on the technical and administrative aspects of the NQI;

• Developing biennial reports on findings that can provide the basis for future action, revision, or improvements of the United States efforts in quantum information science and related technologies;

• Developing plans for working with companies, universities, non-profits, and other educational institutions that demonstrate excellence in building and employing the quantum-smart workforce; and

• Examining how the Federal government can work with non-Federal stakeholders to support the implementation of the National Quantum Initiative Act.

III. Structure of Advisory Committee

The Committee will be made up of two co-chairs—the Director of the Office of Science and Technology Policy or the Director's designee (the Director) and one Committee member designated by the Secretary and up to 21 additional members. The Secretary will, in consultation with the Director, appoint members and they will serve at the pleasure of the Secretary. Potential nominees will represent a cross-section of QIS-related sectors, including but not limited to the private sector, non-profits, Federal laboratories, educational institutions, and other federal government agencies. The nominees will be prominent in their fields, recognized for their professional and other relevant achievements, and from diverse backgrounds.

As necessary, the Committee may establish, with the consent of or at the direction of the SCQIS, such subcommittees or ad hoc groups, including technical advisory groups, as it considers necessary for the performance of its functions. All subcommittees and other groups must report back to the full Committee; members and subcommittees must not provide advice or work products directly to any Federal agency or official not on the Committee.

Appointed Committee members will serve for a term of up to two years. Members serve at the pleasure of the Secretary. Members shall be eligible for reappointment. When vacancies occur, the Secretary will, in consultation with the Director, identify for appointment nominees who can address the Committee's needs per the National Quantum Initiative Act.

IV. Compensation for Members of the Advisory Committee

Members of the Committee shall serve without any compensation for their work on the Committee. Members of the Committee, while engaged in the work of the Committee, will, upon request, be reimbursed for travel expenses, including per diem in lieu of subsistence, to the extent permitted by law for persons serving intermittently in government service (5 U.S.C. 5701-5707), consistent with the availability of funds.

V. Solicitation of Nominations

The Secretary will, in consultation with the Director, consider nominations of all qualified individuals to ensure that the Committee includes the areas of experience noted above. Individuals may nominate themselves or other individuals, and professional associations and organizations may nominate one or more qualified persons for membership on the Committee. Nominations shall state that the nominee is willing to serve as a member and carry out the duties of the Committee.

A nomination package should include the following information for each nominee: (1) A letter of nomination stating the name, affiliation, and contact information for the nominee, the basis for the nomination (i.e., what specific attributes recommend him/her for service in this capacity), and the nominee's field(s) of experience; (2) a biographical sketch of the nominee and a copy of his/her curriculum vitae; and (3) the name, return address, email address, and daytime telephone number at which the nominator can be contacted.

Nominations are open to all individuals without regard to race, color, religion, sex, national origin, age, mental or physical handicap, marital status, or sexual orientation. The Secretary and the Director also encourage geographic diversity in the composition of the Committee. All nomination information should be provided in a single, complete package by midnight Eastern Time on October 4, 2019. Interested applicants should send their nomination package to NQIAC@science.doe.gov.

Signed in Washington, DC, on September 5, 2019.
Chris Fall,
Director, Office of Science, Department of Energy.

[FR Doc. 2019-19640 Filed 9-10-19; 8:45 am]

BILLING CODE 6450-01-P